DEPARTMENT OF ENERGY

Federal Energy Regulatory Commission

[Project No. 1888-030]

York Haven Power Company, LLC; Notice of Settlement Agreement

Take notice that the following settlement agreement has been filed with the Commission and is available for public inspection.

a. Type of Application: Settlement Agreement.

b. Project No.: P-1888-030.

c. Date filed: January 30, 2014.

d. Applicant: York Haven Power Company, LLC.

e. Name of Project: York Haven Hydroelectric Project.

f. Location: On the Susquehanna River, in Dauphin, Lancaster, and York Counties, Pennsylvania. The project does not occupy any federal lands.

g. Filed Pursuant to: Rule 602 of the Commission's Rules of Practice and Procedure, 18 CFR 385.602.

h. Applicant Contact: David R. David, York Haven Power Company, York Haven Hydro Station, P.O. Box 67, York Haven, PA 17370, at (717) 266-9475 or email at DDavid@yorkhavenpower.com and Dennis T. O'Donnell, Olympus Power, LLC, 67 Park Place East, Morristown, NJ 07960.

i. FERC Contact: Emily Carter, (202) 502-6512 or emily.carter@ferc.gov.

j. The York Haven Power Company, LLC (York Haven) filed the Settlement Agreement on behalf of itself, the U.S. Fish and Wildlife Service (FWS), Pennsylvania Fish and Boat Commission (PFBC), Maryland Department of Natural Resources (MDNR), and the Susquehanna River Basin Commission (SRBC). The purpose of the Settlement Agreement is to resolve among the signatories all issues associated with issuance of a new license for the project regarding upstream passage of American eels, downstream passage of post-spawning American shad, downstream passage of juvenile American shad, downstream passage of silver stage American eel, resident fish passage, flow management, water quality and debris management, and endangered species and species of special concern. York Haven requests that the Commission find that the Settlement Agreement is in the public interest, accept the Settlement Agreement, and issue a new license for the York Haven Project that incorporates the license terms and conditions set forth in Section 3.0 of the Settlement Agreement without modification or condition.

k. A copy of the settlement agreement is available for review on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

Dated: February 19, 2014.
Kimberly D. Bose,
Secretary.

[FR Doc. 2014-04039 Filed 2-25-14; 8:45 am]

BILLING CODE 6717-01-P